DEPARTMENT OF VETERANS AFFAIRS

Veterans' Disability Benefits Commission; Notice of Meeting

The Department of Veterans Affairs (VA) gives notice under Public Law 92-463 (Federal Advisory Committee Act) that the Veterans' Disability Benefits Commission has scheduled a meeting for October 19-20, 2006 in the Ballroom of the Beacon Hotel, 1615 Rhode Island Avenue, NW., Washington, DC. On October 19, the session will begin at 8 a.m. and end at 5 p.m. On October 20, the session will begin at 8:30 a.m. and end at 12 noon. The meeting is open to the public.

The purpose of the Commission is to carry out a study of the benefits under the laws of the United States that are provided to compensate and assist veterans and their survivors for disabilities and deaths attributable to military service.

The agenda for October 19 will include updates on the progress of the studies being conducted by the Center for Naval Analyses (CNA). The Commission will receive comments from stakeholders and the public on CNA's draft report on lump sum payments as an option for compensating veterans with disabilities. There will be a continuing discussion of the line of duty and concurrent receipt issue papers presented at the September 14 meeting of the Commission, and a new draft issue paper on character at discharge.

The agenda for October 20 will include a summary of the final site visit to the Southern Region conducted in Atlanta and Augusta, Georgia. There will also be updates on the progress of the studies being conducted by the Institute of Medicine (IOM) and time set aside for additional discussions amongst the Commissioners.

Interested persons may attend and present oral statements to the Commission on October 19. Oral presentations will be limited to five minutes or less, depending on the number of participants. Interested parties may also provide written comments for review by the Commission prior to the meeting or at any time, by e-mail to veterans@vetscommission.com or by mail to Mr. Ray Wilburn, Executive Director, Veterans' Disability Benefits Commission, 1101 Pennsylvania Avenue, NW., 5th Floor, Washington, DC 20004.

Dated: October 3, 2006.
By direction of the Secretary.
E. Philip Riggin,
Committee Management Officer.

[FR Doc. E6-16668 Filed 10-5-06; 8:45 am]

BILLING CODE 8320-01-P